DEPARTMENT OF AGRICULTURE

Rural Utilities Service

7 CFR Part 1779

Rural Housing Service

7 CFR Part 3575

Rural Business—Cooperative Service

Rural Utilities Service

7 CFR Parts 4279 and 4280

Rural Business—Cooperative Service

Rural Housing Service

Rural Utilities Service

7 CFR Part 5001

[FR Doc. E9-3092]

RIN 0570-AA65

Rural Development Guaranteed Loans

AGENCIES: Rural Business—Cooperative Service, Rural Housing Service, Rural Utilities Service, USDA.

ACTION: Interim rule; delay of the effective date.

SUMMARY: Rural Development is further delaying the effective date of the interim rule for Rural Development Guaranteed Loans, which was published on December 17, 2008, to June 1, 2009. The interim rule establishes a unified guaranteed loan platform for the enhanced delivery of four existing Rural Development guaranteed loan programs—Community Facility; Water and Waste Disposal; Business and Industry; and Rural Energy for America Program, formerly known as Renewable Energy Systems and Energy Efficiency Improvement Projects.

DATES: The effective date of the interim rule, which was published on December 17, 2008 [73 FR 76698], delayed until February 17, 2008 [74 FR 2823], delayed until March 9, 2009 [74 FR 7179], is further delayed until June 1, 2009.

FOR FURTHER INFORMATION CONTACT: Mr. Michael Foore, Rural Development, Business and Cooperative Programs, U.S. Department of Agriculture, 1400 Independence Avenue, SW., Stop 3201, Washington, DC 20250-3201; e-mail: Michael.Foore@wdc.usda.gov; telephone (202) 690-4730.

SUPPLEMENTARY INFORMATION: On January 16, 2009, Rural Development delayed the original effective date of the interim rule from January 16, 2009, to February 17, 2009, because there was insufficient time to correct a technical error in the interim rule before the interim rule became effective on January 16, 2009.

Subsequently, Rural Development again delayed the effective date of the interim rule from February 17, 2009, to March 9, 2009 [74 FR 7179, February 13, 2009] allowing for public comments to extend the effective date to June 1, 2009. As stated in the Federal Register, Rural Development identified several administrative actions, including providing the best guidance to its field staff on the interim rule, it believed were necessary to occur prior to the February 17, 2009, effective date in order to ensure the successful implementation of the interim rule. Consequently, Rural Development determined that it was necessary to extend the effective date to June 1, 2009, in order to provide Rural Development the necessary time to implement these administrative actions.

As noted in the February 13, 2009, Federal Register, Rural Development made this change to the effective date, as is provided for under the Administrative Procedures Act (5 U.S.C. 553(b)(3)(B)), because:

1. Implementing the interim rule on February 17, 2009, would have created substantial legal and operation risks to the affected programs because the rule contains certain flaws that must be corrected and would not have provided the Agency sufficient time to properly train field staff and make changes to IT systems critical to the implementation of these programs. These actions could not have been completed by February 17, 2009.

2. The two week extension would allow the public a reasonable opportunity to comment on this proposed extension of the effective date to June 1, 2009, and the Agency to consider such comments before making the decision to make such extension.

3. Extending the effective date to June 1, 2009, allows the Agency to finish the 60-day review described in the January 20, 2009, memo from the Assistant to the President and Chief of Staff, entitled “Regulatory Review.”

The public comment period on the Agency's proposed June 1, 2009, effective date closed on February 20, 2009. The Agency received three comment letters on the proposed extension of the effective date. None of the commenters suggested that the interim rule become effective prior to June 1, 2009. Two of the three commenters also submitted comments during the public comment period on the interim rule. Because the comments submitted by these commenters, address issues that are very similar to those included in comments submitted during the public comment period for the interim rule, the Agency will consider these issues when it considers the comments on the interim rule. Therefore, the effective of the interim rule is extended to June 1, 2009.

Dated: March 3, 2009.
William F. Hagy III,
Acting Deputy Under Secretary, Rural Development.

[FR Doc. E9-4839 Filed 3-5-09; 8:45 am]

BILLING CODE 3410-XY-P